FEDERAL COMMUNICATIONS COMMISSION

47 CFR Part 15

[ET Docket No. 10-97; DA 14-1189]

Unlicensed Personal Communications Service Devices in the 1920-1930 MHz Band

AGENCY: Federal Communications Commission.

ACTION: Final rule.

SUMMARY: This document modifies the rules governing the operation of Unlicensed Personal Communications Service (UPCS) devices in the 1920-1930 MHz band (UPCS band) to reference the 2013 version of the American National Standards Institute (ANSI) C63.17 standard, Methods of Measurement of the Electromagnetic and Operational Compatibility of Unlicensed Personal Communications Service (UPCS) Devices, ANSI C63.17-2013, by which UPCS devices must be measured for compliance with the technical requirements in the Commission's regulations.

DATES: Effective January 21, 2015. The incorporation by reference listed in the rule is approved by the Director of the Federal Register as of January 21, 2015.

FOR FURTHER INFORMATION CONTACT: Patrick Forster, (202) 418-7061, Policy and Rules Division, Office of Engineering and Technology, (202) 418-2290, Patrick.Forster@fcc.gov.

SUPPLEMENTARY INFORMATION: This is a summary of the Commission's Order, ET Docket No. 10-97, adopted August 13, 2014, and released August 14, 2014, DA 14-1189. The full text of this document is available on the Commission's Internet site at www.fcc.gov. It is also available for inspection and copying during regular business hours in the FCC Reference Center (Room CY-A257), 445 12th Street SW., Washington, DC 20554. The full text of this document also may be purchased from the Commission's duplication contractor, Best Copy and Printing Inc., Portals II, 445 12th St. SW., Room CY-B402, Washington, DC 20554; telephone (202) 488-5300; fax (202) 488-5563; email FCC@BCPIWEB.COM.

Summary of the Order

1. The Order modifies the rules in part 15 subpart D governing the operation of UPCS devices in the 1920-1930 MHz band (UPCS band) to reference the 2013 version of the ANSI C63.17 standard, Methods of Measurement of the Electromagnetic and Operational Compatibility of Unlicensed Personal Communications Service (UPCS) Devices, ANSI C63.17-2013. This version of the standard supersedes ANSI C63.17-2006, which contains measurement procedures for verifying the compliance of UPCS devices (including wideband voice and data devices) that operate in the 1920-1930 MHz frequency band with applicable requirements regarding radiofrequency (RF) emission levels and spectrum access procedures in part 15 subpart D of the Commission's rules.

Background

2. The 1920-1930 MHz band is allocated to Fixed and Mobile services on a primary basis and is designated for use by UPCS devices on an unlicensed basis. Under the Commission's part 15 rules, the 1920-1930 MHz band may be used for both asynchronous (generally data) and isochronous (generally voice) UPCS devices. Currently, the most widespread use of the 1920-1930 MHz band is for unlicensed cordless telephones. UPCS devices operating in the 1920-1930 MHz band may not cause harmful interference to authorized radio services and must accept any interference received. In order to limit the influence of and interference potential from UPCS devices to adjacent-channel, co-channel, and adjacent-band devices, the Commission's rules limit UPCS devices' emissions bandwidth, peak power, and in-band and out-of-band emissions. To facilitate the sharing of channels in the UPCS band, the Commission's rules require use of a “listen-before-transmit” protocol or “spectrum etiquette.” This is commonly referred to as the “least-interfered channel access method,” and specifies a process of channel monitoring before a UPCS device selects a channel for transmitting. After monitoring the required minimum number of channels, UPCS devices may use the combined time and spectrum windows with the lowest signal level.

3. As part of its equipment authorization process, the Commission uses measurements of UPCS devices in accordance with the procedures in ANSI C63.17-2006 to determine compliance with the technical requirements in part 15 subpart D of the rules. Under the Commission's equipment authorization rules (47 CFR part 2, subpart J), UPCS devices operated in or marketed for use in the United States must be certified. Parties making compliance measurements on UPCS devices subject to the requirements of part 15 subpart D are required to use the measurement procedures in ANSI C63.17-2006, which is incorporated by reference in Section 15.38(b)(2) of the Commission's rules. On October 9, 2013, The Institute of Electrical and Electronics Engineers (IEEE) published ANSI C63.17-2013, which supersedes ANSI C63.17-2006. ANSI Accredited Standards Committee C63® (ASC C63®) requested that the Commission update its rules to replace current references to ANSI C63.17-2006 with the updated ANSI C63.17-2013 standard, and incorporate by reference the ANSI C63.17-2013 standard into the Commission's rules.

Discussion

4. To help ensure that the UPCS device rules continue to reflect the most appropriate industry standards, in 2012, the Commission delegated to the Chief, Office of Engineering and Technology (OET), the authority to approve for use new versions of the ANSI C63.17 standard for methods of measurement of the electromagnetic and operational compatibility of UPCS devices to the extent that the changes do not raise major compliance issues (ET Docket No. 10-97, FCC 12-33, 27 FCC Rcd at 3645). As part of the same decision, the Commission modified the least-interfered channel access method to promote increased use and efficiency of operations in the 1920-1930 MHz band. These modifications eliminated the 50 dB above thermal noise least-interfered channel monitoring threshold and reduced the minimum number of channels that must be monitored, thereby enabling UPCS devices to access additional usable time and spectrum windows. ANSI C63.17-2013 supersedes ANSI C63.17-2006 to reflect these changes to the least-interfered channel access method. ANSI ASC C63® asserted that incorporation by reference of the 2013 version of ANSI C63.17 into the Commission's rules would facilitate the implementation of the improved services that the Commission anticipated in its 2012 decision, and thus would serve the public interest.

5. Because the relaxed UPCS device least-interfered channel monitoring method that the Commission adopted in 2012 removed a maximum signal monitoring threshold and requires that fewer channels be defined and monitored, UPCS-band products that have already been authorized continue to be in compliance with our technical rules. UPCS device manufacturers simply have additional flexibility to produce UPCS devices that operate in accordance with the revised criteria. Significantly, the Commission made no changes to the UPCS device power and emissions limits in its 2012 decision. Because ASNI C63.17-2006 was updated in 2013 only to reflect the revised least-interfered channel access method the Commission adopted in 2012, but otherwise did not alter the methods used to measure compliance with the part 15 subpart D technical requirements or the power and emissions limits measured, the Commission concluded that updating ANSI C63.17-2006 with the 2013 version of ANSI C63.17 in the Commission's rules would not raise any major compliance issues for UPCS device manufacturers. Thus, consistent with its 2012 decision, the Commission amended sections 15.31(a)(2) and 15.38(b)(2) of the rules to reference the 2013 version of the ANSI C63.17 standard, ANSI C63.17-2013, by which UPCS devices must be measured for compliance with the technical requirements in part 15 subpart D of the rules.

Regulatory Flexibility Certification

6. The Regulatory Flexibility Act (RFA) ¹ requires that agencies prepare a regulatory flexibility analysis for notice-and-comment rulemaking proceedings, unless the agency certifies that “the rule will not have a significant economic impact on a substantial number of small entities.” ² The Commission hereby certifies that these rule revisions will not have a significant economic impact on a substantial number of small entities for the following two reasons: (1) The action updates the version of the standard by which UPCS devices must be measured for compliance with the technical rules in part 15 subpart D of the Commission's rules, and the updated version of the standard only reflects the Commission's revision to the UPCS device least-interfered channel access method, and does not contain any revised measurement procedures or revised power or emissions limits, and (2) UPCS-band products that have already been authorized continue to be in compliance with our technical rules, and UPCS device manufacturers have the option to produce UPCS devices that operate in accordance with the revised least-interfered channel access criteria in part 15 subpart D of the Commission's rules to access additional available channels. The Commission will send a copy of this Order, including this certification, to the Chief Counsel for Advocacy of the Small Business Administration.³

¹ See 5 U.S.C. 604. The RFA, see 5 U.S.C. 601 et seq., has been amended by the Contract With America Advancement Act of 1996, Public Law 104-121, 110 Stat. 847 (1996) (CWAAA). Title II of the CWAAA is the Small Business Regulatory Enforcement Fairness Act of 1996 (SBREFA).

² See 5 U.S.C. 605(b).

³ Id.

Paperwork Reduction Analysis

7. This document does not contain new or modified information collection requirements subject to the Paperwork Reduction Act of 1995 (PRA), Public Law 104-13.

Congressional Review Act

8. The Commission will send a copy of this Order in a report to be sent to Congress and the Government Accountability Office pursuant to the Congressional Review Act, see 5 U.S.C. 801(a)(1)(A).

Ordering Clauses

9. Pursuant to Sections 4(i) and 303(r) of the Communications Act of 1934, as amended, 47 U.S.C. 154(i) and 303(r), this Order in ET Docket No. 10-97 is hereby adopted, and part 15 of the Commission's rules is amended as set forth in Final Rules effective January 21, 2015.

List of Subjects in 47 CFR Part 15

Communications equipment, Incorporation by reference, Radio, Reporting and recordkeeping.

Federal Communications Commission.
Mark Settle,
Chief, Policy and Rules Division, Office of Engineering and Technology.

Final Rules

For the reasons discussed in the preamble, the Federal Communications Commission amends 47 CFR part 15 to read as follows:

PART 15—RADIO FREQUENCY DEVICES

1. The authority citation for part 15 continues to read as follows:

Authority: 47 U.S.C. 154, 302a, 303, 304, 307, 336, 544a, and 549.

2. Section 15.31 is amended by revising paragraph (a)(2) and removing the last sentence of paragraph (a)(3). The revision reads as follows:

§ 15.31 Measurement standards.

(a) * * *

(2) Unlicensed Personal Communications Service (UPCS) devices are to be measured for compliance using ANSI C63.17-2013: “American National Standard Methods of Measurement of the Electromagnetic and Operational Compatibility of Unlicensed Personal Communications Services (UPCS) Devices” (incorporated by reference, see § 15.38).

* * * * *

3. Section 15.38 is amended by revising paragraph (b)(2) to read as follows:

§ 15.38 Incorporation by reference.

* * * * *

(b) * * *

(2) ANSI C63.17-2013: “American National Standard Methods of Measurement of the Electromagnetic and Operational Compatibility of Unlicensed Personal Communications Services (UPCS) Devices,” approved August 12, 2013, IBR approved for § 15.31.

* * * * *

[FR Doc. 2015-00794 Filed 1-20-15; 8:45 am]

BILLING CODE 6712-01-P